DEPARTMENT OF HEALTH AND HUMAN SERVICES

National Institutes of Health

Center for Scientific Review; Amended Notice of Meeting

Notice is hereby given of a change in the meeting of the Center for Scientific Review Special Emphasis Panel, PAR 20-103: Collaborative Program Grant for Multidisciplinary Teams (RM1), November 03, 2023, 10:00 a.m. to November 03, 2023, 06:00 p.m., National Institutes of Health, Rockledge II, 6701 Rockledge Drive, Bethesda, MD 20892 which was published in the Federal Register on October 05, 2023, 88 FR 69211, Doc 2023-22116.

This meeting is being amended to change the meeting panel name to PAR 23-077: Collaborative Program Grant for Multidisciplinary Teams (RM1). The old name contains an old PAR number: PAR 20-103. The meeting is closed to the public.

Dated: October 24, 2023.
Miguelina Perez,
Program Analyst, Office of Federal Advisory Committee Policy.

[FR Doc. 2023-23811 Filed 10-27-23; 8:45 am]

BILLING CODE 4140-01-P